FEDERAL ELECTION COMMISSION

Sunshine Act Notices

AGENCY: Federal Election Commission.

Date and Time: Tuesday, November 3, 2009, at 10 a.m.; Wednesday, November 4, 2009, at 10 a.m. to 11 a.m.

Place: 999 E Street, NW., Washington, DC.

Status: These Meetings Will be Closed to the Public.

Items to be Discussed:

Compliance matters pursuant to 2 U.S.C. 437g.

Audits conducted pursuant to 2 U.S.C. 437g, § 438(b), and Title 26, U.S.C.

Matters concerning participation in civil actions or proceedings or arbitration.

Internal personnel rules and procedures or matters affecting a particular employee.

* * * * *

Date and Time: Wednesday, November 4, 2009, at 2 p.m. to 3 p.m.

Place: 999 F Street, NW., Washington, DC.

Status: This Hearing will be Open to the Public.

Audit Hearing: Tennessee Democratic Party.

* * * * *

Individuals who plan to attend and require special assistance, such as sign language interpretation or other reasonable accommodations, should contact Mary Dove, Commission Secretary, at (202) 694-1040, at least 72 hours prior to the hearing date.

PERSON TO CONTACT FOR INFORMATION: Judith Ingram, Press Officer, Telephone: (202) 694-1220.

Mary W. Dove,
Secretary of the Commission.

[FR Doc. E9-26299 Filed 11-2-09; 8:45 am]

BILLING CODE 6715-01-M